FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Embarques Victoria Multiservices Corp., 3634 Bailey Avenue, 1st Floor, Bronx, NY 10463, Officers: Sergio Castro Espinal, Vice President (Qualifying Individual), Maria Victora Guzman, President.

132 Vermilyea Corp. dba Agustin Cargo Express, 225 Bruckner Blvd., Bronx, NY 10454, Officers: Jose Agustin Batista, President (Qualifying Individual), Juan Batista, Vice President.

Total Express, Inc. (U.S.A.), 2580 S. 156th Street, Suite A104, Seattle, WA 98168, Officers: Thomas V. Olson, Secretary (Qualifying Individual), David Jung, Director.

Non-Vessel-Operating Common Carrier and Ocean Freight Forwarder Transportation Intermediary Applicants

Old Dominion Freight Line, Inc., 500 Old Dominion Way, Thomasville, NC 27360, Officer: Gregory B. Plemmons, Vice President (Qualifying Individual).

JIF Logistics Inc., 152-31 134th Avenue, Jamaica, NY 11434-3505, Officers: Ruoyu Chen, President (Qualifying Individual), Norman Marchetti, Vice President.

Friendship Transport Inc., 6929 Hedgewood Drive, Rancho Palos Verdes, CA 90275, Officers: Ted Ching Yu Wang, President (Qualifying Individual), Bianca Wenbin Teng Wang, Vice President.

Ocean Freight Forwarder—Ocean Transportation Intermediary Applicant

Express Forwarding, Inc., 12738 N. Florida Avenue, Tampa, FL 33612, Officers: Sharlene L. Wallace, Secretary (Qualifying Individual), Marina Y. Scarr, President.

Dated: March 24, 2006.
Bryant L. VanBrakle,
Secretary.

[FR Doc. E6-4579 Filed 3-28-06; 8:45 am]

BILLING CODE 6730-01-P